DEPARTMENT OF COMMERCE

National Oceanic and Atmospheric Administration

[RTID 0648-XC690]

Pacific Fishery Management Council; Public Meeting

AGENCY: National Marine Fisheries Service (NMFS), National Oceanic and Atmospheric Administration (NOAA), Commerce.

ACTION: Notice of public online meeting.

SUMMARY: The Coastal Pelagic Species (CPS) Subcommittee of the Pacific Fishery Management Council's (Pacific Council's) Scientific and Statistical Committee (SSC) will hold an online meeting to review revisions to the habitat model for the northern subpopulation of Pacific sardine and methods for analyzing and using the 2022 CPS survey. The meeting is open to the public.

DATES: The SSC CPS Subcommittee's online meeting will be held Monday, March 20, 2023 and Tuesday, March 21, 2023, beginning at 9 a.m. and continuing until 1 p.m., Pacific Daylight Time, each day or until business for the day has been completed.

ADDRESSES: The SSC's CPS Subcommittee's meeting will be an online meeting. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Ms. Jessi Doerpinghaus, Staff Officer, Pacific Fishery Management Council; telephone: (503) 820-2415.

SUPPLEMENTARY INFORMATION: The purpose of the SSC CPS Subcommittee's meeting is to (a) review proposed changes to the habitat model for the northern subpopulation of Pacific sardine, (b) review how the habitat model is used to assign catches of Pacific sardine to the northern subpopulation, (c) review how the habitat model is used to define the area covered by the CPS survey that pertains to the northern subpopulation, and (d) review methods for analyzing and using the 2022 CPS survey data given disruptions. Members of the Pacific Council's CPS advisory bodies are encouraged to attend.

No management actions will be decided by the SSC's CPS Subcommittee. The SSC CPS Subcommittee members' role will be development of recommendations and reports for consideration by the SSC and Pacific Council at the April meeting in Foster City, CA.

Although nonemergency issues not contained in the meeting agendas may be discussed, those issues may not be the subject of formal action during this meeting. Action will be restricted to those issues specifically listed in this notice and any issues arising after publication of this notice that require emergency action under Section 305(c) of the Magnuson-Stevens Fishery Conservation and Management Act, provided the public has been notified of the intent of the SSC CPS Subcommittee to take final action to address the emergency.

Special Accommodations

This meeting is physically accessible to people with disabilities. Requests for sign language interpretation or other auxiliary aids should be directed to Mr. Kris Kleinschmidt (kris.kleinschmidt@noaa.gov; (503) 820-2412) at least 10 days prior to the meeting date.

Authority: 16 U.S.C. 1801 et seq.

Dated: February 10, 2023.
Rey Israel Marquez,
Acting Deputy Director, Office of Sustainable Fisheries, National Marine Fisheries Service.

[FR Doc. 2023-03220 Filed 2-14-23; 8:45 am]

BILLING CODE 3510-22-P